DEPARTMENT OF TRANSPORTATION

Surface Transportation Board

[Docket No. FD 35569]

Alabama & Florida Railway Co., Inc. d/b/a Ripley & New Albany Railroad Co.—Acquisition and Operation Exemption—Mississippi Tennessee Holdings, LLC and Mississippi Tennessee Railroad, LLC

Alabama & Florida Railway Co., Inc. d/b/a Ripley & New Albany Railroad Co. (RNA), a Class III rail carrier, has filed a verified notice of exemption under 49 CFR 1150.41 ¹ to acquire and operate a portion of rail line owned by Mississippi Tennessee Holdings, LLC (MTH) (currently operated by Mississippi Tennessee Railroad, LLC (MTR)), between milepost 325.56 at New Albany, and milepost 348.1 at Ripley, a distance of 22.54 miles in Union and Tippah Counties, Miss. RNA states that it proposes to acquire all of MTH's title and interest in the right-of-way, track and structures, as well as MTR's leasehold interest in the property.

¹ The notice of exemption was filed on November 10, 2011, and an amended notice was filed on November 14, 2011.

RNA certifies that its projected annual revenues as a result of this transaction will not result in RNA's becoming a Class II or Class I rail carrier and will not exceed $5 million.

The proposed transaction may not be consummated before December 14, 2011, the effective date of the exemption (30 days after the amended exemption was filed).

If the verified notice contains false or misleading information, the exemption is void ab initio. Petitions to revoke the exemption under 49 U.S.C. 10502(d) may be filed at any time. The filing of a petition to revoke will not automatically stay the effectiveness of the exemption. Stay petitions must be filed no later than December 7, 2011 (at least 7 days before the amended exemption becomes effective).

An original and 10 copies of all pleadings, referring to Docket No. FD 35569, must be filed with the Surface Transportation Board, 395 E Street SW., Washington, DC 20423-0001. In addition, a copy of each pleading must be served on Daniel A. LaKemper, 1318 S. Johanson Rd., Peoria, IL 61607.

Board decisions and notices are available on our Web site at http://www.stb.dot.gov.

Decided: November 25, 2011.
By the Board, Joseph H. Dettmar, Acting Director, Office of Proceedings.
Jeffrey Herzig,
Clearance Clerk.

[FR Doc. 2011-30840 Filed 11-29-11; 8:45 am]

BILLING CODE 4915-01-P